DEPARTMENT OF THE TREASURY

Office of Thrift Supervision

Suburban Federal Savings Bank Crofton, MD; Notice of Appointment of Receiver

Notice is hereby given that, pursuant to the authority contained in section 5(d)(2) of the Home Owners' Loan Act, the Office of Thrift Supervision has duly appointed the Federal Deposit Insurance Corporation as sole Receiver for Suburban Federal Savings Bank, Crofton, Maryland (OTS No. 05875).

Dated: January 30, 2009.
By the Office of Thrift Supervision.
Sandra E. Evans,
Federal Register Liaison.

[FR Doc. E9-2936 Filed 2-11-09; 8:45 am]

BILLING CODE 6720-01-M